DEPARTMENT OF COMMERCE

International Trade Administration

[A-423-813]

Citric Acid and Certain Citrate Salts From Belgium: Final Results of Antidumping Duty Administrative Review; 2021-2022

AGENCY: Enforcement and Compliance, International Trade Administration, Department of Commerce.

SUMMARY: The U.S. Department of Commerce (Commerce) determines that Citribel nv. (Citribel), a producer/exporter subject to this administrative review, made sales of citric acid and certain citrate salts (citric acid) from Belgium at less than normal value. The period of review (POR) is July 1, 2021, through June 30, 2022.

DATES: Applicable December 29, 2023.

FOR FURTHER INFORMATION CONTACT: Deborah Cohen, AD/CVD Operations, Office III, Enforcement and Compliance, International Trade Administration, U.S. Department of Commerce, 1401 Constitution Avenue NW, Washington, DC 20230; telephone: (202) 482-4521.

SUPPLEMENTARY INFORMATION:

Background

On July 31, 2023, Commerce published the preliminary results of the 2021-2022 administrative review of the antidumping duty order on citric acid from Belgium, covering one producer/exporter of subject merchandise, Citribel, and invited interested parties to comment.¹ On August 30, 2023, Archer Daniels Midland Company, Cargill, Incorporated, and Primary Products Ingredients Americas LLC (collectively, the petitioners), and Citribel timely submitted case briefs regarding Commerce's Preliminary Results.² On September 6, 2023, the petitioners timely submitted a rebuttal case brief.³ For a summary of the events that occurred since Commerce published the Preliminary Results, see the Issues and Decision Memorandum.⁴ Commerce conducted this review in accordance with section 751(a) of the Tariff Act of 1930, as amended (the Act).

¹ See Citric Acid and Certain Citrate Salts from Belgium: Preliminary Results of Antidumping Duty Administrative Review; 2021-2022, 88 FR 49442 (July 31, 2023) (Preliminary Results), and accompanying Preliminary Decision Memorandum.

² See Petitioners' Letter, “Petitioners' Case Brief,” dated August 30, 2023; see also Citribel's Letter, “Citribel N.V. Case Brief,” dated August 30, 2023.

³ See Petitioners' Letter, “Petitioners' Rebuttal Brief,” dated September 6, 2023.

⁴ See Memorandum, “Issues and Decision Memorandum for the Final Results of the Administrative Review of the Antidumping Duty Order on Citric Acid and Certain Citrate Salts from Belgium; 2021-2022,” dated concurrently with, and hereby adopted by, this notice (Issues and Decision Memorandum).

Scope of the Order

The merchandise covered by this order includes all grades and granulation sizes of citric acid, sodium citrate, and potassium citrate in their unblended forms, whether dry or in solution, and regardless of packaging type. For a full description of the scope of the order, see the Issues and Decision Memorandum.

Analysis of Comments Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on a review of the record and analysis of the comments received, we made changes to the preliminary weighted-average dumping margin for Citribel. For detailed information, see the Issues and Decision Memorandum.

Final Results of Review

Commerce determines that, for the period of July 1, 2021, through June 30, 2022, the following estimated weighted-average dumping margin exists:

Exporter/producer | Weighted- average dumping margin (percent)
Citribel nv | 9.13

Disclosure

We intend to disclose the calculations performed for these final results to parties in this review within five days of the date of publication of this notice in the Federal Register, in accordance with 19 CFR 351.224(b).

Assessment Rates

Pursuant to section 751(a)(2)(C) of the Act and 19 CFR 351.212(b)(1), Commerce will determine, and U.S. Customs and Border Protection (CBP) shall assess, antidumping duties on all appropriate entries of subject merchandise in accordance with the final results of this review. Pursuant to 19 CFR 351.212(b)(1), we calculated importer-specific ad valorem duty assessment rates based on the ratio of the total amount of dumping calculated for the examined sales to the total entered value of those sales. Where the respondent did not report entered value, we calculated a per-unit assessment rate for each importer by dividing the total amount of dumping calculated for the examined sales made to that importer by the total quantity associated with those sales. Where either the respondent's weighted-average dumping margin is zero or de minimis within the meaning of 19 CFR 351.106(c)(1), or an importer-specific assessment rate is zero or de minimis, we will instruct CBP to liquidate the appropriate entries without regard to antidumping duties.⁵ For entries of subject merchandise during the POR produced by Citribel for which it did not know its merchandise was destined for the United States, we will instruct CBP to liquidate unreviewed entries at the all-others rate if there is no rate for the intermediate company(ies) involved in the transaction.

⁵ In these final results, Commerce applied the assessment rate calculation method adopted in Antidumping Proceedings: Calculation of the Weighted-Average Dumping Margin and Assessment Rate in Certain Antidumping Duty Proceedings; Final Modification, 77 FR 8101 (February 14, 2012).

The final results of this review shall be the basis for the assessment of antidumping duties on entries of merchandise covered by the final results of this review and for future deposits of estimated duties, where applicable.⁶ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁶ See section 751(a)(2)(C) of the Act.

Cash Deposit Requirements

The following cash deposit requirements will be effective for all shipments of subject merchandise entered, or withdrawn from warehouse, for consumption on or after the publication date of the final results of this administrative review, as provided by section 751(a)(2)(C) of the Act: (1) the cash deposit rate for the company listed above will be equal to the weighted-average dumping margin established in the final results of this administrative review; (2) for merchandise exported by producers or exporters not covered in this review but covered in a prior completed segment of the proceeding, the cash deposit rate will continue to be the company-specific rate published for the most recent period; (3) if the exporter is not a firm covered in this review, a prior review, or the original investigation, but the producer has been covered in a prior complete segment of this proceeding, then the cash deposit rate will be the rate established for the most recent period for the producer of the merchandise; (4) the cash deposit rate for all other manufacturers or exporters will continue to be 19.30 percent, the all-others rate established in the less-than-fair-value investigation.⁷ These cash deposit requirements, when imposed, shall remain in effect until further notice.

⁷ See Citric Acid and Certain Citrate Salts from Belgium: Affirmative Final Determination of Sales at Less Than Fair Value, 83 FR 26001 (June 5, 2018).

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to an administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing these final results of administrative review in accordance with section 751(a)(1) of the Act and 19 CFR 351.221(b)(5).

Dated: December 22, 2023.
James Maeder,
Deputy Assistant Secretary for Antidumping and Countervailing Duty Operations.

Appendix

List of Topics Discussed in the Issues and Decision Memorandum

I. Summary

II. Background

III. Scope of the Order

IV. Changes Since the Preliminary Results

V. Discussion of the Issues

Comment 1: Whether Commerce Should Use Citribel's Quarterly Costs

Comment 2: Whether Commerce Should Match Citribel's Sales Within the Same Quarter

Comment 3: Ministerial Error—Currency Conversion for International Freight Expenses

VI. Recommendation

[FR Doc. 2023-28783 Filed 12-28-23; 8:45 am]

BILLING CODE 3510-DS-P